DEPARTMENT OF EDUCATION

34 CFR Parts 612 and 686

[Docket ID ED-2014-OPE-0057]

RIN 1840-AD07

Teacher Preparation Issues

AGENCY: Office of Postsecondary Education, Department of Education.

ACTION: Final rule; CRA Revocation.

SUMMARY: Under the Congressional Review Act, Congress has passed, and the President has signed, a resolution of disapproval of the Teacher Preparation Issues final regulations that were published on October 31, 2016. Pursuant to the resolution, the Department of Education (Department) is removing applicable regulations from the Code of Federal Regulations.

DATES: This action is effective May 9, 2017.

FOR FURTHER INFORMATION CONTACT: Sophia McArdle, Ph.D., U.S. Department of Education, 400 Maryland Avenue SW., Room 6W256, Washington, DC 20202. Telephone: (202) 453-6318 or by email: sophia.mcardle@ed.gov.

If you use a telecommunications device for the deaf or a text telephone, call the Federal Relay Service, toll free, at 1-800-877-8339.

SUPPLEMENTARY INFORMATION: On October 31, 2016, the Department published the teacher preparation issues notice of final regulations (81 FR 75494). The regulations in 34 CFR part 612 were effective November 30, 2016. The amendments to part 686 were to be effective on July 1, 2017, except for amendatory instructions 4.A., 4.B., 4.C.iv., 4.C.x., and 4.C.xi., amending 34 CFR 686.2(d) and (e), which were to be effective July 1, 2021. Congress subsequently passed a resolution of disapproval of the rule, and President Trump signed the resolution into law as Public Law 115-14 on March 27, 2017. Accordingly, the Department is hereby removing part 612 of the teacher preparation issues final regulations from the Code of Federal Regulations. The amendments to part 686 were not effective, and therefore, were never part of the Code of Federal Regulations. The Department is removing the instructions amending part 686 from the rule that published October 31, 2016.

List of Subjects in 34 CFR Part 612

Administrative practice and procedure, Aliens, Colleges and universities, Consumer protection, Grant programs—education, Loan programs—education, Reporting and recordkeeping requirements, Selective Service System, Student aid, Vocational education.

Dated: May 4, 2017.
Betsy DeVos,
Secretary of Education.

Revocation of Amendatory Instructions

For the reasons discussed in the preamble, and under the authority of the Congressional Review Act (5 U.S.C. 801 et seq.) and Public Law 115-14 (March 27, 2017), the Secretary revokes the following amendatory instructions from FR Doc. 2016-24856, published in the issue of Monday, October 31, 2016 (81 FR 75494):

§§ 686.1, 686.2, 686.3, 686.11, 686.12, 686.32, 686.37, 686.40, 686.42, and 686.43 [Revocation of instructions]

1. On pages 75619 through 75622, remove amendatory instructions 2 through 12.

Amendment to 34 CFR Chapter VI

For the reasons discussed in the preamble, and under the authority of the Congressional Review Act (5 U.S.C. 801 et seq.) and Public Law 115-14 (March 27, 2017), the Secretary also amends chapter VI of title 34 of the Code of Federal Regulations as follows:

PART 612—[Removed]

1. Remove part 612.

[FR Doc. 2017-09351 Filed 5-8-17; 8:45 am]

BILLING CODE 4000-01-P